Proclamation 10113 of October 30, 2020

National Native American Heritage Month, 2020

By the President of the United States of America

A Proclamation

During National Native American Heritage Month, we honor the storied legacy of American Indians and Alaska Natives in our Nation. Their cherished legacy, rich cultures, and heroic history of military service inspire us all. This month, as we recommit to supporting Native American Tribes and people, we resolve to work side-by-side with their leaders to secure stronger, safer communities and preserve their sacred heritage for future generations.

In recognition of the importance of Indian Country to the cultural identity of our Nation and the strength of our economy, my Administration has taken unprecedented action to promote the health and wellbeing of Native American communities. In response to the coronavirus pandemic, we secured the largest investment in Indian Country in our Nation's history, providing $8 billion in Coronavirus Aid, Relief, and Economic Security (CARES) Act funding to ensure Native American communities have the resources they need to combat the virus. In August, I signed into law the Great American Outdoors Act, the largest conservation effort in a generation, which includes up to $475 million in guaranteed funding over the next 5 years to improve American Indian school infrastructure. I recently secured the return from Finland of a number of cultural artifacts and human remains originating from Native American Tribes in the Mesa Verde region, and I will continue to work to identify Native American artifacts wrongfully taken abroad and will work with Tribal partners to bring them home. And we are continuing to work alongside Native American leaders to combat crime and violence through important initiatives like Operation Lady Justice, addressing the long-ignored tragedy of missing and murdered American Indians and Alaska Natives.

To further our commitment to Native American communities, my Administration recently released our policy vision for Indian Country entitled “Putting America's First Peoples First—Forgotten No More!” This comprehensive plan protects Tribal sovereignty and economic self-determination while also promoting public safety, providing for high-quality education, and delivering lasting solutions to long-unresolved healthcare challenges in Indian Country. Through concrete actions like my Administration's reform of National Environmental Policy Act (NEPA) regulations, we are helping increase access to water, broadband, electric, and other utility infrastructure in Indian Country. Working with Tribal leaders, we are creating investment opportunities in Native American communities, building on their storied traditions while looking toward a shared future of prosperity and cooperation.

Native Americans play a critical role in the health and vitality of our great Nation. During National Native American Heritage Month, we honor their vibrant cultures. As business owners, artists, teachers, writers, courageous members of our Armed Forces, and so much more, their contributions to our society are cause for celebration and appreciation by all Americans. This month, as we honor the heritage of Native American Tribes and people, we resolve to support their legacy and communities for generations to come.

NOW, THEREFORE, I, DONALD J. TRUMP, President of the United States of America, by virtue of the authority vested in me by the Constitution and the laws of the United States, do hereby proclaim November 2020 as National Native American Heritage Month. I call upon all Americans to commemorate this month with appropriate programs and activities and to celebrate November 27, 2020, as Native American Heritage Day.

IN WITNESS WHEREOF, I have hereunto set my hand this thirtieth day of October, in the year of our Lord two thousand twenty, and of the Independence of the United States of America the two hundred and forty-fifth.

[FR Doc. 2020-24742

Filed 11-4-20; 8:45 am]

Billing code 3295-F1-P